DEPARTMENT OF COMMERCE

International Trade Administration

[A-469-805]

Stainless Steel Bar From Spain: Final Results of Antidumping Duty Administrative Review; 2013-2014

AGENCY: Enforcement and Compliance, International Trade Administration, Department of Commerce.

SUMMARY: On November 18, 2014, the Department of Commerce (the Department) published in the Federal Register the preliminary results of the administrative review of the antidumping duty order on stainless steel bar (SSB) from Spain.¹ The period of review (POR) is March 1, 2013, through February 28, 2014. The review covers one producer/exporter of the subject merchandise, Gerdau Aceros Especiales Europa, S.L. (Gerdau). We invited parties to comment on the Preliminary Results. None were received. Accordingly, these final results are unchanged from the Preliminary Results, and we continue to find that Gerdau did not have reviewable entries during the POR.

¹ See Stainless Steel Bar From Spain: Preliminary Results of Antidumping Duty Administrative Review; 2013-2014, 79 FR 68662 (November 18, 2014) (Preliminary Results).

DATES: Effective Date: March 11, 2015.

FOR FURTHER INFORMATION CONTACT: Dmitry Vladimirov or Minoo Hatten, AD/CVD Operations, Office I, Enforcement and Compliance, International Trade Administration, U.S. Department of Commerce, 14th Street and Constitution Avenue NW., Washington, DC 20230; telephone: (202) 482-1690, and (202) 482-1690, respectively.

SUPPLEMENTARY INFORMATION:

Scope of the Order

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to the order is currently classifiable under subheadings 7222.10.00, 7222.11.00, 7222.19.00, 7222.20.00, 7222.30.00 of the Harmonized Tariff Schedule of the United States (HTSUS).

Although the HTSUS subheadings are provided for convenience and customs purposes, the written description of the scope of the order is dispositive.

Background

We received a timely submission from Gerdau reporting that it did not have sales, shipments, or entries of the subject merchandise during the POR.² In addition, in response to the Department's query, U.S. Customs and Border Protection (CBP) did not provide any evidence that contradicted Gerdau's claim of no shipments.³ We received no comments from interested parties concerning the results of our query with the CBP. Therefore, based on Gerdau's certification and our analysis of CBP information, we preliminarily determined that Gerdau did not have any reviewable entries during the POR.⁴

² See Gerdau's letter entitled “Stainless Steel Bar from Spain; Entry of appearance and notification of no shipments” dated May 10, 2014.

³ See Preliminary Results, 79 FR at 68663.

⁴ Id.

We invited interested parties to comment on the Preliminary Results.⁵ None were received. The Department conducted this review in accordance with section 751(a)(1)(B) of the Tariff Act of 1930, as amended (the Act).

⁵ Id.

Final Determination of No Shipments

As explained above, in the Preliminary Results, we found that Gerdau did not have reviewable entries during the POR.⁶ Also in the Preliminary Results, we stated that consistent with our recently announced refinement to our assessment practice, it is not appropriate to rescind the review with respect to Gerdau but, rather, to complete the review with respect to Gerdau and issue appropriate instructions to CBP based on the final results of this review.⁷

⁶ Id.

⁷ Id.

After issuing the Preliminary Results, we received no comments from interested parties, nor have we received any information that would cause us to revisit our preliminary determination. Therefore, for these final results, we continue to find that Gerdau did not have any reviewable entries during the POR.

Assessment

We determine, and CBP shall assess, antidumping duties on all appropriate entries of subject merchandise in accordance with these final results of review.⁸ Consistent with the Department's refinement to its assessment practice, because we determined that Gerdau had no shipments of subject merchandise during the POR, for entries of subject merchandise during the POR produced by Gerdau for which it did not know that the merchandise was destined for the United States, we will instruct CBP to liquidate un-reviewed entries at the all-others rate if there is no rate for the intermediate company(ies) involved in the transaction.⁹

⁸ See 19 CFR 351.212(b).

⁹ For a full discussion, see Antidumping and Countervailing Duty Proceedings: Assessment of Antidumping Duties, 68 FR 23954 (May 6, 2003) (Assessment Policy Notice).

We intend to issue instructions to CBP 15 days after the publication date of the final results of this review.

Cash Deposit Requirements

The following cash deposit requirements will be effective for all shipments of the subject merchandise entered, or withdrawn from warehouse, for consumption on or after the publication date of this notice of final results of the administrative review, as provided by section 751(a)(2)(C) of the Act: (1) The cash deposit rate for Gerdau remains unchanged from the rate assigned to the company in the most recently completed review of the company; (2) for other manufacturers and exporters covered in a prior segment of the proceeding, the cash deposit rate continues to be the company-specific rate published for the most recently completed segment of this proceeding in which that manufacturer or exporter participated; (3) if the exporter is not a firm covered in this review, a prior review, or the original investigation, but the manufacturer is, the cash deposit rate is the rate established for the most recently completed segment of this proceeding for the manufacturer of subject merchandise; and (4) the cash deposit rate for all other manufacturers or exporters continues to be 25.77 percent, the all-others rate established in the investigation.¹⁰ These cash deposit requirements, when imposed, shall remain in effect until further notice.

¹⁰ See Notice of Final Determination of Sales at Less Than Fair Value: Stainless Steel Bar From Spain, 59 FR 66931 (December 28, 1994).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

We are issuing and publishing these final results of administrative review and notice in accordance with sections 751(a)(1) and 777(i) of the Act.

Dated: March 3, 2015.
Paul Piquado,
Assistant Secretary for Enforcement and Compliance.

[FR Doc. 2015-05561 Filed 3-10-15; 8:45 am]

BILLING CODE 3510-DS-P